FEDERAL COMMUNICATIONS COMMISSION

47 CFR Part 73

[DA 07-2390]

Radio Broadcasting Services; Hemet, CA

AGENCY: Federal Communications Commission.

ACTION: Final rule; grant of petition for reconsideration.

SUMMARY: This document grants a Petition for Reconsideration filed by Southern California Public Radio in response to the staff letter dated March 18, 2004, returning its Petition for Rule Making, which requested the reservation of FM Channel 273A at Hemet, California for noncommercial educational use. This document also denies a Petition for Reconsideration filed by Maranatha Ministries of Hemet directed to the staff letter dated March 18, 2004, returning its Petition for Rule Making, requesting the reservation of vacant FM Channel 273A at Hemet, California for noncommercial educational use.

FOR FURTHER INFORMATION CONTACT: Rolanda F. Smith, Media Bureau (202) 418-2180.

SUPPLEMENTARY INFORMATION: This is a synopsis of the Commission's Memorandum Opinion and Order, adopted June 6, 2007, and released June 8, 2007. The full text of this decision is available for inspection and copying during normal business hours in the FCC Reference Information Center at Portals II, CY-A257, 445 12th Street, SW., Washington, DC 20554. The complete text of this decision may also be purchased from the Commission's copy contractor, Best Copy and Printing, Inc., 445 12th Street, SW., Room CY-B402, Washington, DC 20554, telephone 1-800-378-3160 or http://www.BCPIWEB.com. This document is not subject to the Congressional Review Act. (The Commission will not send a copy of this Memorandum Opinion and Order pursuant to the Congressional Review Act, see 5 U.S.C. 801(a)(1)(A), because there were no rule changes made herein.)

List of Subjects in 47 CFR Part 73

Radio, Radio broadcasting.

Federal Communications Commission.
John A. Karousos,
Assistant Chief, Audio Division, Media Bureau.

[FR Doc. 07-3167 Filed 6-26-07; 8:45 am]

BILLING CODE 6712-01-M